DEPARTMENT OF ENERGY

Federal Energy Regulatory Commission

[Docket No. MG00-1-001]

Clear Creek Storage Company, L.L.C.; Notice of Filing

March 28, 2000.

Take notice that on March 8, 2000, Clear Creek Storage Company, L.L.C. filed revised standards of conduct in response to the Commission's February 11, 2000 Order. 90 FERC ¶ 61,143 (2000).

Any person desiring to be heard or to protest such filing should file a motion to intervene or protest with the Federal Energy Regulatory Commission, 888 First Street, NE, Washington, D.C., 20426, in accordance with Rules 211 or 214 of the Commission's Rules of Practice and Procedure (18 CFR 385.211 or 385.214). All such motions to intervene or protest should be filed on or before April 12, 2000. Protests will be considered by the Commission in determining the appropriate action to be taken but will not serve to make protestants parties to the proceeding. Any person wishing to become a party must file a motion to intervene. Copies of this filing are on file with the Commission and are available for public inspection. This filing may be viewed on the web at http://www.ferc.fed.ud/online/rims.htm (call 202-208-2222 for assistance).

David P. Boergers,
Secretary.

[FR Doc. 00-8062 Filed 3-31-00; 8:45 am]

BILLING CODE 6717-01-M